NATIONAL ARCHIVES AND RECORDS ADMINISTRATION

36 CFR Part 1258

[FDMS Docket # NARA-07-0001]

RIN 3095-AB49

NARA Reproduction Fees

AGENCY: National Archives and Records Administration (NARA).

ACTION: Proposed rule.

SUMMARY: NARA is revising its fees for reproduction of records and other materials in the custody of the Archivist of the United States. This proposed rule covers reproduction of Federal records created by other agencies that are in the National Archives of the United States, donated historical materials, Presidential records, Nixon Presidential historical materials, and records filed with the Office of the Federal Register. The fees are being changed to reflect current costs of providing the reproductions. This proposed rule will affect the public and Federal agencies.

DATES: Comments are due by April 27, 2007.

ADDRESSES: NARA invites interested persons to submit comments on this proposed rule. Comments may be submitted by any of the following methods:

Federal eRulemaking Portal: http://www.regulations.gov. Follow the instructions for submitting comments.

Fax: Submit comments by facsimile transmission to 301-837-0319.

Mail: Send comments to Regulations Comments Desk (NPOL), Room 4100, Policy and Planning Staff, National Archives and Records Administration, 8601 Adelphi Road, College Park, MD 20740-6001.

Hand Delivery or Courier: Deliver comments to 8601 Adelphi Road, College Park, MD.

FOR FURTHER INFORMATION CONTACT: Jennifer Davis Heaps at 301-837-1850 or fax at 301-837-0319. Requests for copies of the proposed information collection and supporting statement should be directed to Tamee Fechhelm at 301-837-1694 or fax at 301-837-3213.

SUPPLEMENTARY INFORMATION:

General Background

NARA does not receive appropriated funds to provide copies of our records to the public. The fees for reproduction of records in 36 CFR part 1258 are set under the Archivist's authority in 44 U.S.C. 2116(c). That statute requires that, to the extent possible, NARA recover the actual cost of making copies of records and other materials transferred to the custody of the Archivist of the United States. NARA conducts periodic reviews of the fees to ensure that the costs of providing this service to the public are properly recovered. NARA's current fees were established in October 2000 based on a 1999 cost study. As a result of a cost study conducted in 2006, fees for copying records must increase to recover NARA's costs. This is the first proposed fee increase in almost seven years.

The cost components included in the NARA-made reproduction fees are staff salaries, equipment and materials (e.g., toner, paper) for making reproductions, shipping costs, and oversight and administration of the fee collection. Fixed-fee reproduction cost components include contractor costs for making and delivering the reproductions, staff salaries for supervision of the copying operation, equipment and materials, and oversight and administration of the fee collection. The cost components included in the self-service copies made by customers at NARA facilities are staff salaries for supervision of the copying operation, equipment and materials, and oversight and administration of the fee collection.

The costs for providing reproductions of the unique historical materials in NARA's custody reflect the special handling required to help preserve records for future research. Original archival materials cannot be copied using automatic document feeder equipment. Each page must be hand-placed on a copier, one at a time. Preservation requirements add time and cost to the price of copying NARA's irreplaceable documents.

What Changes Is NARA Making in This Proposed Rule?

NARA is updating fixed-fee order fees in § 1258.4, the minimum mail order fee in § 1258.10, and fees for self-service and common NARA-made reproductions in § 1258.12. Because the fee schedule applies to our nation-wide facilities, we have removed certain fees for services that are not available in the majority of our facilities. In the Rules section of today's Federal Register, NARA has published an interim final rule removing from NARA's fee schedule reproductions of other Federal agencies' records stored in NARA's Federal records centers.

Fixed fee orders. Fixed fee reproductions consist of records from high-demand bodies of genealogical records that NARA reproduces for a fixed fee, rather than a fee per page copied to expedite handling. The fees for all of these orders must increase to reflect the higher costs of providing the copies. In Fiscal Year 2006, NARA's costs for the fixed-fee services were more than double the revenue received for them.

The most notable change in the fixed-fee services is the increase for full military pension files more than 75 years old (NATF Form 85). Our recent study showed that many of the full pension files for the Civil War period (1860-1869 for purposes of this proposed rule) have page counts up to 200 pages or more. When the current fee of $37.00 went into effect in 2000, NARA estimated a smaller average page count for each file (about 40 to 50 pages) and believed that the fee would cover the majority of the costs. However, we found that we underestimated the number of documents in the Civil War pension files being copied, which resulted in incorrect projections of actual production costs Moreover, the Civil War pension files are the majority of the full pension file requests NARA receives. In FY 2006, NARA completed 7,700 orders for full Civil War pension files and 1,500 non-Civil War pension files.

To account for the average page-count differences between Civil War pension files and pension files of other wars, we propose to create a separate fee for full Civil War pension files. We also propose to retain the service for the pension documents packet (also on NATF Form 85), which many customers have found to meet their information needs. The pension documents packet consists of selected records containing military service and genealogical information most likely of interest to genealogical researchers. In FY 2006, NARA received 2,677 requests for the pension documents packet; almost all of those requests were for Civil War pension files.

Self-service and NARA-made reproductions. Proposed fees for self-service and NARA-made copies of most other records are in the following table:

Service | Proposed fee
Paper-to-paper copy made by the customer on a NARA self-service copier in the Washington, DC, area | $0.25
Paper-to-paper copy made by the customer on a NARA self-service copier outside the Washington, DC, area (regional archives and Presidential libraries) | 0.20
Paper-to-paper copy made by NARA | 0.75
Microfilm-to-paper copy made by the customer on a NARA self-service copier | 0.50

We also propose to increase the fee for certifications and the minimum mail order fee. NARA certifies copies of materials in our holdings on request by affixing a certificate with a ribbon and seal attesting that the copy is a true copy of a document in our custody. Our current fee for certifications is $6.00 and we propose to increase that fee to $15.00 per certification. The fee has not been based on a price per page, but on a per record basis. Because the certification fee is based on tasks performed for a record regardless of the number of pages, we have maintained a fixed fee for that service per record.

We propose to raise our minimum fee for mail-order reproductions from $10.00 to $15.00 because the current fee is inadequate to cover NARA's costs. As with certifications, NARA performs the same functions to copy a few pages of records as to copy dozens of pages for a reproduction order. We maintain the minimum mail order fee to recover the costs of administering small copying requests. The dollar amount is based upon the cost to NARA to provide minimum mail orders divided by the anticipated number of orders that will fall below the dollar threshold. The costs include making the copies, supplies, shipping, and administration. For the recent fee study, this calculation resulted in a price of $15.00 per minimum mail order. NARA will continue to evaluate this fee in future studies.

Reproduction services no longer listed in § 1258.12. We have removed fees for selected reproduction services. However, these services will continue to be available as unlisted processes in accordance with the existing § 1258.12(f). Some of the fees we formerly listed in our regulations have been for reproduction services not available at all our locations, which confused customers. These include self-service video copying and self-service Polaroid prints. In addition, we have decided not to publish a fee for NARA-made paper-to-microfilm copies because demand for them is diminishing and NARA is unable to offer this service on a routine basis. We will compute the fee for this service in accordance with § 1258.12(f) when a customer requests the service or when, because of the condition of the records, NARA must recommend it as a copying option instead of electrostatic (paper) copying.

Paperwork Reduction Act

NATF Forms 81 through 86 in this proposed rule have been approved by the Office of Management and Budget under the Paperwork Reduction Act and bear approval number 3095-0027 on the face of the forms. NATF Form 85, under this proposal, requires modification to separate Civil War pension file requests from those of other wars. Other forms are being modified only to update the stated fee.

Submission of requests on a form is necessary to handle in a timely fashion the volume of requests received for these records (approximately 18,000 per year for the NATF 85) and the need to obtain specific information from the researcher to search for the records sought. Researchers may use Order Online! (http://www.archives.gov/research/order/orderonline.html) to complete the forms and order the copies. For those who do not have Internet access, we also make the forms available on carbonless paper as a multi-part form. The paper form allows the researcher to retain a copy of his request and NARA to respond to the researcher on the results of the search or to bill for copies if the researcher wishes to order the copies. As a convenience, the form allows researchers to provide credit card information to authorize billing and expedited mailing of the copies.

This proposed rule is not a significant regulatory action for the purposes of Executive Order 12866 and has not been reviewed by the Office of Management and Budget. As required by the Regulatory Flexibility Act, I certify that this rule will not have a significant impact on a substantial number of small entities because it affects individual researchers. This regulation does not have any federalism implications.

List of Subjects in 36 CFR Part 1258

Archives and records.

For the reasons set forth in the preamble, NARA proposes to amend part 1258 of title 36, Code of Federal Regulations, as follows:

PART 1258—FEES

1. The authority citation for part 1258 continues to read as follows:

Authority: 44 U.S.C. 2116(c) and 2307.

2. Amend § 1258.4 by revising paragraph (d) to read as follows:

§ 1258.4 What reproductions are not covered by the NARA fee schedule?

* * * * *

(d) Reproduction of the following types of records using the specified order form:

Type of record | Order form | Fee
(1) Passenger arrival lists | NATF Form 81 | $25.00
(2) Federal Census requests | NATF Form 82 | 25.00
(3) Eastern Cherokee applications to the Court of Claims | NATF Form 83 | 25.00
(4) Land entry records | NATF Form 84 | 40.00
(5) Full pension file more than 75 years old (Civil War period) | NATF Form 85 | 125.00
(6) Full pension file more than 75 years old (non-Civil War) | NATF Form 85 | 60.00
(7) Pension documents packet (selected records) | NATF Form 85 | 25.00
(8) Bounty land warrant application files | NATF Form 85 | 25.00
(9) Military service files more than 75 years old | NATF Form 86 | 25.00

* * * * *

3. Amend § 1258.10 by revising paragraph (a) to read as follows:

§ 1258.10 What is NARA's mail order policy?

(a) There is a minimum fee of $15.00 per order for reproductions that are sent by mail to the customer.

* * * * *

4. Revise § 1258.12 to read as follows:

§ 1258.12 NARA reproduction fee schedule.

(a) Certification: $15.00.

(b) Electrostatic copying (in order to preserve certain records that are in poor physical condition, NARA may restrict customers to photographic or other kinds of copies instead of electrostatic copies):

Service | Fee
Paper-to-paper copy made by the customer on a NARA self-service copier in the Washington, DC, area | $0.25
Paper-to-paper copy made by the customer on a NARA self-service copier outside the Washington, DC, area (regional archives and Presidential libraries) | 0.20
Paper-to-paper copy made by NARA | 0.75
Microfilm-to-paper copy made by the customer on a NARA self-service copier | 0.50

(c) Unlisted processes: For reproductions not covered by this fee schedule, see also § 1258.4. Fees for other reproduction processes are computed upon request.

5. Revise § 1258.16 to read as follows:

§ 1258.16 Effective date.

The fees in this part are effective on [effective date of the final rule.] If your order was received by NARA before this effective date, we will charge the fees in effect at the time the order was received.

Dated: February 20, 2007.
Allen Weinstein,
Archivist of the United States.

[FR Doc. E7-3160 Filed 2-23-07; 8:45 am]

BILLING CODE 7515-01-P